DEPARTMENT OF COMMERCE

Census Bureau

Proposed Information Collection; Comment Request; 2018 End-to-End Census Test—Address Canvassing Operation

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before December 19, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Robin A. Pennington, Census Bureau, HQ-2K281N, Washington, DC 20233; (301) 763-8132 (or via email at robin.a.pennington@census.gov).

SUPPLEMENTARY INFORMATION:

I. Abstract

During the years preceding the 2020 Census, the Census Bureau will pursue its commitment to reduce the costs of conducting a decennial census, while maintaining our commitment to quality. In the 2018 Fiscal Year, the Census Bureau will be performing a 2018 End-to-End Census Test. This last major test before the 2020 Census has the stated purpose (1) to test and validate 2020 Census operations, procedures, systems, and field infrastructure together to ensure proper integration and conformance with functional and non-functional requirements, and (2) to produce a prototype of geographic and data products.

The Address Canvassing operation, beginning in the summer of 2017, is the first operation in the 2018 End-to-End Census Test. The purpose of the Address Canvassing operation is (1) to deliver a complete and accurate address list and spatial database for enumeration and tabulation, and (2) to determine the type and address characteristics for each living quarter.

The following objectives are crucial to a successful Address Canvassing operation:

• Test the listing and mapping capabilities required by In-Field Address Canvassing.

• Validate the creation of In-Field Address Canvassing workload by In-Office Address Canvassing.

• Conduct a listing quality control operation during In-Field Address Canvassing.

Background

For the 2010 Census, Address Canvassing field staff, referred to as listers, traversed almost every block in the nation to compare what they observed on the ground to the contents of the Census Bureau's address list. Listers verified or corrected addresses that were on the list, added new addresses to the list, and deleted addresses that no longer existed. Listers also collected map spot locations (i.e., Global Positioning System coordinates) for each structure and added new streets.

In addition to Address Canvassing, the Census Bureau conducted the Group Quarters Validation (GQV) operation after the Address Canvassing operation and prior to enumeration for the 2010 Census. The purpose of the GQV operation was to improve the Group Quarters (GQ) frame. A GQ is a place where people live or stay, in a group living arrangement that is owned or managed by an entity or organization providing housing and/or services for the residents. This is not a typical household-type living arrangement, and residency is commonly restricted to those receiving specific services. Types of GQs include such places as college residence halls, residential treatment centers, skilled-nursing facilities, group homes, military barracks, correctional facilities, and workers' dormitories.

For the 2010 Census GQV operation, field staff visited a specific address to determine if it was a GQ, housing unit, transitory location (TL), a non-residential unit, or if it was nonexistent. If the address was a GQ or TL, the lister collected additional information needed for subsequent enumeration operations such as contact name. In support of a more efficient census design strategy, the 2020 Census will not conduct a separate operation to validate GQ information. Instead, the 2020 Census will validate GQ information during the Address Canvassing operation. This includes the collection of a contact name and phone number, as well as data about the type of GQ and the number of potential residents, which will be needed in enumeration operations during the census. The Address Canvassing Operation component of the 2018 End-to-End Census Test will be a test of the Address Canvassing field procedures planned for the 2020 Census Address Canvassing, as well as a validation study of the In-Office Address Canvassing that is planned. These processes are described in more detail below.

2020 Census Address Canvassing: In-Office Address Canvassing

In-Office Address Canvassing is the process of using empirical geographic evidence (e.g., imagery, comparison of the Census Bureau's address list to partner-provided lists) to assess the current address list and make changes where necessary. This component detects and captures change from high quality administrative and third-party data, reducing the In-Field Address Canvassing workload.

In-Office Address Canvassing starts with Interactive Review (IR), which is an imagery-based review to assess the extent to which the number of addresses—both housing units and GQs—in the census address list are consistent with the number of addresses visible in current imagery. It also assesses the changes between the current imagery and an older vintage of imagery (around the time of 2010 Census Address Canvassing).

Results from IR inform the Active Block Resolution (ABR) process, which seeks to research and update areas identified with growth, decline, undercoverage of addresses, or overcoverage of addresses from the comparison of the two different vintages of imagery and counts of addresses in the Master Address File (MAF) maintained by the Census Bureau. In addition to using the results from IR, the ABR process uses other data sources to resolve the identified issues in the office and to update the MAF rather than sending these areas to In-Field Address Canvassing. The other data sources include local Geographic Information Systems (GIS) viewers available online, parcel data, local files acquired through the U.S. Census Bureau's Geographic Support System (GSS) program, and commercial data. Areas not resolved in the office become the universe of geographic areas worked during In-Field Address Canvassing.

2020 Census Address Canvassing: In-Field Address Canvassing

In-Field Address Canvassing is the process of having listers visit specific geographic areas to identify every place where people could live or stay, and then to compare what they see on the ground to the existing census address list and either verify or correct the address and location information. Listers also classify each living quarter (LQ) as a housing unit or GQ. Listers will knock on doors at every structure in an attempt to locate LQs. If someone answers, the lister will provide a Confidentiality Notice and ask about the address in order to verify or update the information, as appropriate. The lister will then ask if there are any additional LQs in the structure or on the property. If there are additional LQs, the lister will collect/update that information, as appropriate. If the lister does not find anyone at home, they will update the address list as best they can by observation.

II. Method of Collection

Universe

The 2018 End-to-End Census Test occurs in three sites within the continental United States: Pierce County, Washington, Providence County, Rhode Island, and Bluefield-Beckley-Oak Hill, West Virginia area. For the In-Field Address Canvassing data collection within the 2018 End-to-End Census Test, listers will knock on every door in their assigned blocks to ask residents about their living quarters. However, the Census Bureau expects that they would make contact with residents (i.e., someone is at home) at most 25 percent of the time.

In-Field Address Canvassing

In-Field Address Canvassing will hire new field listers, who are primarily inexperienced with census listing activities. Listers will receive work assignments grouped by geography and in close proximity to the lister's residence (whenever possible). Field staff will use the Enterprise Census and Survey Enabling (ECaSE) platform's Listing and Mapping software.

Current Design Strategy

In order to assess and accomplish the stated objectives described above, In-Office Address Canvassing clerical staff will work every block in the three sites. The In-Office Address Canvassing process will identify blocks that create the universe of blocks for In-Field Address Canvassing. The Census Bureau estimates that the 2020 Census In-Field Address Canvassing workload will be approximately 25 percent.

III. Data

OMB Control Number: 0607-XXXX.

Form Number(s): NA.

Type of Review: Regular Submission.

Affected Public: Households/Individuals.

Estimated Number of Respondents: 43,965 Households.

Estimated Time per Response: 5 min/Household.

Estimated Total Annual Burden Hours: 3,664 hours.

Estimated Total Annual Cost to Public: The only cost to respondents is that of their time to respond.

Respondent's Obligation: Mandatory.

Legal Authority: Title 13 United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2016-25253 Filed 10-18-16; 8:45 am]

BILLING CODE 3510-07-P